DEPARTMENT OF THE INTERIOR

Bureau of Land Management

[OR-65891, LLORB00000-L51010000-GN0000-LVRWH09H0560; HAG-11-0331]

Notice of Availability of the Final Environmental Impact Statement for the Celatom Mine Expansion Project in Harney and Malheur Counties, OR

AGENCY: Bureau of Land Management, Interior.

ACTION: Notice of Availability.

SUMMARY: In accordance with the National Environmental Policy Act of 1969, as amended (NEPA), the Bureau of Land Management (BLM) has prepared a Final Environmental Impact Statement (EIS) for the Celatom Mine Expansion Project and by this notice is announcing its availability.

DATES: The Final EIS will be available for public review for 30 days, beginning on the date that the Environmental Protection Agency's Notice of Availability of the Final EIS publishes in the Federal Register.

ADDRESSES: Notices of Availability of the Final EIS for the Celatom Mine Expansion Project will be mailed to individuals, agencies, organizations, or companies who responded to the BLM on the Draft EIS. Compact discs of the Final EIS are available on request from the BLM Burns District Office, 28910 Highway 20 West, Hines, Oregon 97738, phone (541) 573-4400, or email at BLM_OR_BU_Celatom_EIS@blm.gov. Interested persons may also review the Final EIS at the following Web site: www.blm.gov/or/districts/burns/plans/index.php.

Printed copies of the Final EIS are available for public inspection at:

• Harney County Library, 80 West “D” Street, Burns, Oregon 97720.

• BLM Vale District Office, 100 Oregon Street, Vale, Oregon 97918.

• BLM Burns District Office at the address listed above.

FOR FURTHER INFORMATION CONTACT: William Dragt, Celatom Mine Expansion Project, telephone (541) 573-4400; address 28910 Highway 20 West, Hines, Oregon 97738; or email BLM_OR_BU_Celatom_EIS@blm.gov.

Persons who use a telecommunications device for the deaf (TDD) may call the Federal Information Relay Service at 1 (800) 877-8339 to contact the above individual during normal business hours. The service is available 24 hours a day, 7 days a week, to leave a message or question with the above individual. You will receive a reply during normal business hours.

SUPPLEMENTARY INFORMATION: The mining company, EP Minerals (EPM), formally known as EaglePicher Minerals, operates a diatomaceous earth mining complex (Celatom Mine Complex), approximately 50 miles east of Burns and 60 miles west of Vale, Oregon. The Celatom Mine Complex currently consists of three open-pit mines: Kelley Field (on BLM-administered land), Section 36 (on State land), and Beede Desert (on private land) in Harney and Malheur Counties, Oregon.

Existing EPM mining operations on BLM-administered land in the Celatom Mine Complex were first described in a Mine Plan of Operations (MPO) submitted by EPM to the BLM in 1984. The proposed total Celatom Mine Complex MPO area at that time was 1,634 acres. The BLM approved the MPO after completion of an Environmental Assessment in 1985.

EPM stockpiles ore from the Celatom Mine Complex on 35 acres of BLM-administered land at the Vines Hill Stockpile Area (VHSA) approximately 14 miles west of Vale, Oregon. VHSA is operated under a separate MPO that was approved by the Vale District BLM in 1986. VHSA is not part of the proposed Celatom Mine expansion being analyzed in the current EIS.

Existing EPM mining operations on private and State land in the Project Area, VHSA, and EPM's mill on private land approximately 7 miles west of Vale operate under current county and State permits. During preparation of this EIS, EPM is authorized to continue operations within the Project Area on BLM-administered land as approved by BLM in 1985, at the VHSA as approved by the BLM in 1986, and on private and State lands permitted by county and State agencies.

In 2008, EPM submitted a new MPO to the BLM for operations on 12,640 acres consisting of 1,280 acres of State of Oregon land, 1,680 acres of private land, 8,080 acres of BLM land, and 1,600 acres of split estate land patented under the Stock Raising Homestead Act with 320 acres owned by EPM.

The proposed MPO area includes mining operations on 1,131 acres of BLM-administered lands. The 1,131 acres of BLM-administered land would be disturbed through portions of the 50-year lifespan of the mine. Exploration, sampling and monitoring will occur on 250 acres of public lands. The exploration and sampling disturbances would last for 1-3 years and then be reclaimed. Monitoring sites will remain active for the 50-year lifespan of the mine.

The remaining 11,259 acres in the MPO area lies between and south of the active and proposed mines. Under the MPO this area will be largely undisturbed by mining activities except some of the 250 acres of exploration, sampling, and monitoring may occur in this area. Exact locations will be determined at a later date. Except as needed to provide for safety, this area also remains open to most other multiple use activities.

Due to the size of the proposed operations, the BLM determined preparation of an EIS is necessary to comply with the requirements of NEPA. The EIS analyzes proposed activities on BLM-administered land and cumulative effects from proposed activities on State-administered and private land, within the project boundary. This Final EIS analyzes EPM's proposed MPO as well as mitigation measures necessary to prevent unnecessary or undue degradation under 43 CFR part 3809. The proposed operations associated with the project include:

(1) Expanding operations: At the Kelly Field area, expand mining operations to 72.5 acres on BLM-administered land; in Section 36 expand mining operations on State-administered land; and, at Puma claims, expand operations on private land to 5 acres;

(2) Developing new mining operations on BLM-administered land on 225 acres at Hidden Valley, 462.5 acres in North Kelly Field, 50 acres in Section 25, and 286 acres in Eagle; and, at Beede Desert, constructing two new roads to connect Hidden Valley and Section 36 and Hidden Valley north to Eagle; and

(3) Drilling water quality monitoring wells and conducting exploratory drilling on 200 acres of BLM-administered land, development drilling, sampling, trenching, and bulk sampling on 50 acres of BLM-administered land within the project boundary. Exploration and subsequent trenching and bulk sampling would be conducted to delineate boundaries of known ore reserves and to explore for new deposits. These activities could occur on BLM-administered lands anywhere within the Project Area.

Activities under the Proposed Action, including final reclamation, would be conducted over the course of approximately 50 years. The proposed expansion of mining operations and development of new mining operations in the Project Area include open pit mines, roads within the mine operations areas, and other operations such as stock piling and ancillary features including service areas.

A Notice of Intent to Prepare an EIS for the Celatom Mine Expansion Project was published in the Federal Register on September 15, 2008 (73 FR 53268). Public participation was solicited through the media, mailings, and the BLM Web site. Public meetings were held in Burns and Vale, Oregon, in October 2008. The Notice of Availability for the Draft EIS was published in the Federal Register on April 8, 2011 (76 FR 19786). Public participation was solicited through the media, mailings, and the BLM Web site. A public meeting was held in Juntura, Oregon, on April 26, 2011. Major issues brought forward and addressed in the EIS include: Air quality; forestry and woodlands; geology and minerals; grazing management; land use and realty; migratory birds; noise; recreation; social and economic values; soils; special status species; transportation and roads; vegetation; visual resources; water quality; wetlands and riparian zones; wilderness characteristics; and wildlife and fisheries.

Please note that public comments and information submitted including names, street addresses and email addresses of respondents are available for public review and disclosure at the above BLM address during regular business hours (7:45 a.m. to 4:30 p.m.), Monday through Friday, except holidays.

Comments on the Draft EIS were considered for the Final EIS. Substantive comments were incorporated into the analysis presented in the Final EIS.

Authority: 40 CFR 1506.6 and 1506.10.

Jeff Rose,
Associate District Manager, Burns.

[FR Doc. 2012-10679 Filed 5-3-12; 8:45 am]

BILLING CODE 4310-33-P